DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Application for Certificate to Employ Homeworker (WH-46), Piece Rate Measurements, and Homeworker Handbooks (WH-75). A copy of the proposed information collection request can be obtained by contacting the office listed below in the addresses section of this Notice.

DATES: Written comments must be submitted to the office listed in the addresses section below on or before March 31, 2006.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

Fair Labor Standards Act (FLSA) § 11(d) authorizes the Secretary of Labor to regulate, restrict, or prohibit industrial homework as necessary to prevent evasion of the minimum wage requirements of the Act. Restrictions exist on seven homework industries, (knitted outerwear, women's apparel, jewelry manufacturing, gloves and mittens, button and buckle manufacturing, handkerchief manufacturing, and embroideries). DOL permits individual industrial homework in these restricted industries only if a special homework certificate is in effect or in certain hardship cases. Homework has always been permitted under the FLSA in all other industries; provided, the employer maintains homeworker handbooks for such employees recording their hours of work and other required payroll information. Form WH-46, Application to Employ Homeworkers, provides the Wage Hour Division (WHD) with a means of identifying employers of homeworkers, and individual workers, in the restricted industries who may not be identified otherwise. The Piece Rate Measurement requires that employers record and retain documentation of the method used to establish pieces rates is necessary so that WHD can verify that rates were properly determined and will result in wage payments to homeworkers at a rate at least equal to the FLSA minimum wage for all hours worked in the work week. Form WH-75, Homeworker Handbook is used to insure that employers fulfill their obligation to obtain and record accurate hours worked information whenever they distribute homework to employees and collect it from them, homeworkers record the information as they perform the work. Individual homeworkers retain their own handbooks until completely filled-in and then return them to the employer. This information collection is currently approved for use through August 31, 2006.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order to insure employees are paid in compliance with the Fair Labor Standards Act (FLSA).

Type of Review: Extension.

Agency: Employment Standards Administration.

Title: Application to Employ Homeworkers Piece Rate Measurements, Homeworker Handbooks.

OMB Number: 1215-0013.

Agency Number: WH-46 and WH-75.

Affected Public: Individuals or households; Business or other for-profit; Not-for-profit institutions.

Total Respondents (Recordkeeping and Reporting): 377,606.

Total Responses (Recordkeeping and Reporting): 1,208,195.

Time per Response: 30 minutes.

Frequency: On Occasion.

Estimated Total Burden Hours (Recordkeeping and Reporting): 614,241.

Total Burden Cost (capital/startup): $0.

Total Burden Cost (operating/maintenance): $0.

Title | Form No. | No. of respondents | No. of responses | Avg. time per response (minutes) | Burden hours
Reporting Burden:
Application To Employ Homeworkers | WH-46 | 50 | 25 | 30 | 12.5
Homeworker Handbooks | WH-75 | 302,005 | 1,208,020 | 30 | 604,010
Recordkeeping Burden:
Piece Rate Measurement |  | 50 | 150 | 60.5 | 151.25
Homeworker Handbooks |  | 75,501 | 1,208,020 | .5 | 10,067
Total |  | 377,606 | 1,208,195 |  | 614,241

Comments submitted in response to this notice will be summarized and/or included in the request for Office of Management and Budget approval of the information collection request; they will also become a matter of public record.

Dated: January 25, 2006.
Sue Blumenthal,
Acting Chief, Branch of Management Review and Internal Control, Division of Financial Management, Office of Management, Administration and Planning, Employment Standards Administration.

[FR Doc. E6-1133 Filed 1-27-06; 8:45 am]

BILLING CODE 4510-27-P